DEPARTMENT OF ENERGY

Federal Energy Regulatory Commission

[Project No. 3984-004]

Algonquin Power Company; Abenaki Timber Corporation; Notice of Transfer of Exemption

1. By letter filed February 7, 2012, Algonquin Power Company informed the Commission that its exemption from licensing for the South Milton Project No. 3984, originally issued January 30, 1981,¹ has been transferred to Abenaki Timber Corporation. The project is located on the South Milton River in Stafford County, New Hampshire. The transfer of an exemption does not require Commission approval.

¹ 15 FERC ¶ 62,423, Order Granting Exemption From Licensing of a Small Hydroelectric Project of 5 Megawatts or Less and Denying Competing Application for Preliminary Permit.

2. Abenaki Timber Corporation, located at 16 Church Street, Kingston, New Hampshire 03848 is now the exemptee of the South Milton Project No. 3984.

Dated: February 16, 2012.
Kimberly D. Bose,
Secretary.

[FR Doc. 2012-4411 Filed 2-24-12; 8:45 am]

BILLING CODE 6717-01-P